DEPARTMENT OF HEALTH AND HUMAN SERVICES

Centers for Disease Control and Prevention

[60 Day-13-13QQ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Older Adult Safe Mobility Assessment Tool—NEW—National Center for Injury Prevention and Control (NCIPC), Centers for Disease Control and Prevention (CDC).

Background and Brief Description

In 2010, there were 40 million adults aged 65 or older in the U.S., representing 13% of the U.S. population. By 2030, this segment of the population will increase to an estimated 72 million or 20%. People now aged 65 are expected to live well into their 80s with the vast majority preferring to “age in place” (i.e., grow old in their current homes). With most adults aging in place, rather than in retirement or nursing homes, it is absolutely critical to better prepare communities and older Americans for what is on the horizon.

There is widespread agreement that older adults in the U.S. do not adequately plan for their future mobility needs, nor are most aware of existing mobility resources in their communities. Thus, when an individual's mobility becomes impaired they are ill prepared to adapt their lifestyle to their changing needs. A process of mobility assessment would begin to address this situation and aid older adults in meeting their changing mobility needs.

At present there are numerous mobility-related assessments actively used throughout the U.S. Most are designed to collect information from just one particular mobility silo, such as assessments that focus on fall prevention. None of these existing tools cut across mobility silos while focusing on older adults. None create a national picture of older adult safe mobility that captures an individual's physical and emotional health, their social network, or the ease of mobility in their home, transportation, their neighborhood, their city, and beyond. And no existing older adult tools are both mobility holistic and empowerment driven self-administered assessments. The data collected in this project will allow CDC to develop a tool that can help older adults both assess and improve their complete mobility.

This project involves developing, refining and validating a Safe Mobility Assessment Tool that allows older adults to assess their current mobility situation, learn about mobility challenges that may affect them in the future, and receive actionable feedback on how to improve and protect their mobility. The information collected in this project will be used to refine and improve the tool, as well as to conduct feasibility and audience acceptability analysis of the tool. This information will allow CDC to create the most useful Safe Mobility Assessment Tool possible for U.S. older adults.

CDC requests OMB approval to collect both qualitative and quantitative data. Qualitative data collection will include key informant interviews, focus groups, and intercepts in urban and rural communities. In brief, these methods will include key informant interviews of community stakeholders (three stakeholder interviews in two states for a total of six key informant interviews); older adult consumer focus groups (two focus groups in two states with seven people each for a total of fourteen participants); and older adult consumer intercepts (thirty intercepts in two rural locations and ten intercepts in two urban locations for a total of forty intercepts). The qualitative data collection will be used to help inform a quantitative stage of work to include a national sample of geographically and socio-demographically diverse older adults (N = 1,000) who will be recruited and interviewed by telephone. The key informant interviews, focus groups, intercepts and telephone survey data collection will allow us to gain information about the feasibility and usefulness of the Older Adult Safe Mobility Tool; about what impacts the tool may have on older adults (e.g., motivation to change/behavior intent, and changes in knowledge, attitudes, and awareness); about which mobility domains are most valuable to include in the tool (e.g., which are of greatest interest and can be improved by older adults); and about what other areas of the tool could be refined and improved. This information will allow us to create a final version of the Safe Mobility Assessment Tool that can be used by older adults across the U.S. to protect and enhance their mobility.

CDC anticipates that data collection will begin in December 2013 and that all data collection will be completed by July 2014. CDC estimates the following burden for one-time respondents: Key informant interviews will take approximately 30 minutes to complete, focus groups will each take up to 120 minutes, intercept interviews will take up to 20 minutes each, and the telephone survey will involve an on-your-own review of materials (approximately 15 minutes) and a pre-scheduled telephone survey (approximately 12 minutes). CDC plans for 6 individuals to complete the key informant interviews, 14 older adults to participate in the focus groups, and 40 older adults to participate in the intercepts. Additionally, CDC plans to collect information from 1,000 older adults for the telephone survey. Each respondent will only provide information once. Key informant interviews and the quantitative survey will be conducted by telephone. As telephone survey participants are recruited, they may elect to receive stimulus material (i.e., a draft version of the Tool) prior to the survey either by mail or electronically via email, whichever they prefer. In addition, focus group participants may receive communications (confirmation and reminder notices) via email or mail. Email communication will be used with key informant, focus group and telephone survey respondents, however each will be given the option of mail rather than email as their preferred communication method. Email will be provided not only as a courtesy to respondents, for those respondents that prefer email rather than mail, but also, it will allow more open and swift communication between the data collectors and study participants. Additionally, recruitment/screening for the focus groups and telephone surveys, as well as administration of the telephone surveys will use Computer Assisted Telephone Interview (CATI) systems for data collection, which are designed to reduce the burden to respondents.

There are no costs to respondents other than their time.

Estimate Annualized Burden Hours
Type of respondent | Form name | Number of respondents | Number of responses per respondent | Average burden per response (in hours) | Total burden (in hours)
Key informant interview respondents | Interview guide | 6 | 1 | 30/60 | 3
Focus group respondents | Moderator guide | 14 | 1 | 2 | 28
Intercept respondents | Intercept script | 40 | 1 | 30/60 | 20
Telephone survey respondents | Survey | 1,000 | 1 | 27/60 | 450
Total |  |  |  |  | 501

Ron A. Otten,
Director, Office of Scientific Integrity, Office of the Associate Director for Science, Office of the Director, Centers for Disease Control and Prevention.

[FR Doc. 2013-08911 Filed 4-16-13; 8:45 am]

BILLING CODE 4163-18-P